DEPARTMENT OF LABOR

Employment and Training Administration

[TA-W-62,606]

Fantech, Inc., RB Kanalflakt, Inc., Kanalflakt, Inc., Sarasota, Florida; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on January 14, 2008, applicable to workers of Fantech, Inc., Sarasota, Florida. The notice was published in the Federal Register on February 1, 2008 (73 FR 6212).

At the request of the State agency, the Department reviewed the certification for workers of the subject firm. The workers are engaged in the production of residential ventilation systems and premium bath fans.

New information shows that RB Kanalflakt, Inc. is the parent firm of Fantech, Inc. and that some of the workers wages at the subject firm are being reported under three Unemployment Insurance (UI) tax accounts: Fantech, Inc., RB Kanalflakt, Inc. and Kanalflakt, Inc.

Accordingly, the Department is amending this certification to properly reflect this matter.

The intent of the Department's certification is to include all workers of Fantech, Inc. who were adversely affected by a shift in production of residential ventilation systems and premium bath fans to Canada.

The amended notice applicable to TA-W-62,606 is hereby issued as follows:

All workers of Fantech, Inc., RB Kanalflakt, Inc., and Kanalflakt, Inc., Sarasota, Florida, who became totally or partially separated from employment on or after December 20, 2006, through January 14, 2010, are eligible to apply for adjustment assistance under Section 223 of the Trade Act of 1974, and are also eligible to apply for alternative trade adjustment assistance under Section 246 of the Trade Act of 1974.

Signed at Washington, DC, this 25th day of March 2008.
Linda G. Poole,
Certifying Officer, Division of Trade Adjustment Assistance.

[FR Doc. E8-9101 Filed 4-24-08; 8:45 am]

BILLING CODE 4510-FN-P